ENVIRONMENTAL PROTECTION AGENCY

[FRL-9245-1]

Proposed Settlement Agreement

AGENCY: Environmental Protection Agency (EPA).

ACTION: Notice of Proposed Settlement Agreement; Request for Public Comment.

SUMMARY: In accordance with section 113(g) of the Clean Air Act, 42 U.S.C. 7413(g), notice is hereby given of a proposed settlement agreement to address a lawsuit filed by the Center for Biological Diversity (CBD). CBD filed suit in the United States District Court for the Northern District of California. The proposed settlement agreement establishes deadlines for EPA to take action relating to attainment determinations for the National Ambient Air Quality Standard for PM10, as set forth in the proposed agreement.

DATES: Written comments on the proposed settlement agreement must be received by January 28, 2011.

ADDRESSES: Submit your comments, identified by Docket ID number EPA-HQ-OGC-2010-1066, online at http://www.regulations.gov (EPA's preferred method); by e-mail to oei.docket@epa.gov; by mail to EPA Docket Center, Environmental Protection Agency, Mailcode: 2822T, 1200 Pennsylvania Ave., NW., Washington, DC 20460-0001; or by hand delivery or courier to EPA Docket Center, EPA West, Room 3334, 1301 Constitution Ave., NW., Washington, DC, between 8:30 a.m. and 4:30 p.m., Monday through Friday, excluding legal holidays. Comments on a disk or CD-ROM should be formatted in Word or ASCII file, avoiding the use of special characters and any form of encryption, and may be mailed to the mailing address above.

FOR FURTHER INFORMATION CONTACT: Steven Silverman, Air and Radiation Law Office (2366A), Office of General Counsel, U.S. Environmental Protection Agency, 1200 Pennsylvania Ave., NW., Washington, DC 20460; telephone: (202) 564-5523; fax number (202) 564-5654; e-mail address: silverman.steven@epa.gov.

SUPPLEMENTARY INFORMATION:

I. Additional Information About the Proposed Settlement Agreement

On April 29, 2010, CBD filed a complaint in the northern district of California alleging that EPA had failed to perform mandatory duties related to PM-10 nonattainment areas, including attainment determinations (as of the applicable attainment date) for various areas, and promulgation of FIPs for the Paul Spur/Douglas and Nogales areas in Arizona. Center for Biological Diversity v. Jackson (No. 3:10-CV-01846-MMC) (N.D. Cal.). CBD has since agreed that a number of its claims have been resolved by EPA action. With respect to the remaining claims, EPA is agreeing to sign final rules by various dates, which rules would determine whether the following areas attained the PM-10 standard by the areas' applicable attainment dates: Hayden, AZ, Eagle River, AK, Columbia Falls, MT, Libby, MT, Nogales, AZ, Reno, NV, and Paul Spur/Douglas, AZ. EPA is also agreeing to sign final rules that promulgate Federal Implementation Plans for the Douglas portion of the Paul Spur/Douglas (AZ) area and for the Nogales (AZ) area by July 27, 2012 unless EPA takes other final action by that date. (EPA has already completed certain of the actions described in the proposed settlement agreement.)

The proposed settlement agreement provides that within 10 days of signature, the parties agree to file a joint motion in the district court to administratively close this case. CBD further agrees to file a motion for voluntary dismissal, with prejudice, with respect to all claims in the Complaint within 30 days after notice appears in the Federal Register of EPA taking the last rulemaking action required under the proposed Agreement. If EPA fails to meet its obligations under the proposed Settlement Agreement, CBD's sole remedy is to reinstate its action.

For a period of thirty (30) days following the date of publication of this notice, the Agency will accept written comments relating to the proposed settlement agreement from persons who are not named as parties to the litigation in question. EPA or the Department of Justice may withdraw or withhold consent to the proposed settlement agreement if the comments disclose facts or considerations that indicate that such consent is inappropriate, improper, inadequate, or inconsistent with the requirements of the Act. Unless EPA or the Department of Justice determines that consent to this settlement agreement should be withdrawn, the terms of the agreement will be affirmed.

II. Additional Information About Commenting on the Proposed Settlement Agreement

A. How can I get a copy of the Settlement agreement?

The official public docket for this action (identified by Docket ID No. EPA-HQ-OGC-2010-1066) contains a copy of the proposed settlement agreement. The official public docket is available for public viewing at the Office of Environmental Information (OEI) Docket in the EPA Docket Center, EPA West, Room 3334, 1301 Constitution Ave., NW., Washington, DC. The EPA Docket Center Public Reading Room is open from 8:30 a.m. to 4:30 p.m., Monday through Friday, excluding legal holidays. The telephone number for the Public Reading Room is (202) 566-1744, and the telephone number for the OEI Docket is (202) 566-1752.

An electronic version of the public docket is available through http://www.regulations.gov. You may use the http://www.regulations.gov to submit or view public comments, access the index listing of the contents of the official public docket, and to access those documents in the public docket that are available electronically. Once in the system, key in the appropriate docket identification number then select “search”.

It is important to note that EPA's policy is that public comments, whether submitted electronically or in paper, will be made available for public viewing online at http://www.regulations.gov without change, unless the comment contains copyrighted material, CBI, or other information whose disclosure is restricted by statute. Information claimed as CBI and other information whose disclosure is restricted by statute is not included in the official public docket or in the electronic public docket. EPA's policy is that copyrighted material, including copyrighted material contained in a public comment, will not be placed in EPA's electronic public docket but will be available only in printed, paper form in the official public docket. Although not all docket materials may be available electronically, you may still access any of the publicly available docket materials through the EPA Docket Center.

B. How and to whom do I submit comments?

You may submit comments as provided in the ADDRESSES section. Please ensure that your comments are submitted within the specified comment period. Comments received after the close of the comment period will be marked “late.” EPA is not required to consider these late comments.

If you submit an electronic comment, EPA recommends that you include your name, mailing address, and an e-mail address or other contact information in the body of your comment and with any disk or CD-ROM you submit. This ensures that you can be identified as the submitter of the comment and allows EPA to contact you in case EPA cannot read your comment due to technical difficulties or needs further information on the substance of your comment. Any identifying or contact information provided in the body of a comment will be included as part of the comment that is placed in the official public docket, and made available in EPA's electronic public docket. If EPA cannot read your comment due to technical difficulties and cannot contact you for clarification, EPA may not be able to consider your comment.

Use of the http://www.regulations.gov Web site to submit comments to EPA electronically is EPA's preferred method for receiving comments. The electronic public docket system is an “anonymous access” system, which means EPA will not know your identity, e-mail address, or other contact information unless you provide it in the body of your comment. In contrast to EPA's electronic public docket, EPA's electronic mail (e-mail) system is not an “anonymous access” system. If you send an e-mail comment directly to the Docket without going through http://www.regulations.gov, your e-mail address is automatically captured and included as part of the comment that is placed in the official public docket, and made available in EPA's electronic public docket.

Patricia A. Embrey,
Acting Associate General Counsel.

[FR Doc. 2010-32772 Filed 12-28-10; 8:45 am]

BILLING CODE 6560-50-P